DEPARTMENT OF LABOR

Employment and Training Administration

[TA-W-62,809]

Edwards Vacuum, Inc., Wilmington, MA; Notice of Revised Determination on Reconsideration

By application dated April 23, 2008, a company official requested administrative reconsideration of the Department's negative determination regarding eligibility to apply for Trade Adjustment Assistance (TAA), applicable to workers and former workers of the subject firm. The denial notice was signed on March 31, 2008 and published in the Federal Register on April 17, 2008 (73 FR 20954).

In the request for reconsideration, the company official provided new information regarding production at the subject facility. The company official stated that workers of the subject facility produce remanufactured vacuum pumps for retail.

Based on the information provided by the company official, the Department determined that workers of the subject firm were engaged in the production of remanufactured vacuum pumps. The investigation also revealed that the subject firm has begun shifting production of remanufactured vacuum pumps to Mexico and that this shift contributed to the layoffs at the subject firm.

In accordance with Section 246 the Trade Act of 1974 (26 U.S.C. 2813), as amended, the Department herein presents the results of its investigation regarding certification of eligibility to apply for Alternative Trade Adjustment Assistance (ATAA) for older workers.

In order for the Department to issue a certification of eligibility to apply for ATAA, the group eligibility requirements of Section 246 of the Trade Act, as amended, must be met. The Department has determined in this case that the requirements of Section 246 have been met.

A significant number of workers at the firm are age 50 or over and possess skills that are not easily transferable. Competitive conditions within the industry are adverse.

Conclusion

After careful review of the facts obtained in the investigation, I determine that there was a shift in production from the workers' firm or subdivision to Mexico of articles that are like or directly competitive with those produced by the subject firm or subdivision. In accordance with the provisions of the Act, I make the following certification:

All workers of Edwards Vacuum, Inc., Wilmington, Massachusetts who became totally or partially separated from employment on or after February 4, 2007 through two years from the date of certification are eligible to apply for adjustment assistance under Section 223 of the Trade Act of 1974 and are eligible to apply for alternative trade adjustment assistance under Section 246 of the Trade Act of 1974.

Signed in Washington, DC this 5th day of June, 2008.
Elliott S. Kushner,
Certifying Officer, Division of Trade Adjustment Assistance.

[FR Doc. E8-13404 Filed 6-13-08; 8:45 am]

BILLING CODE 4510-FN-P